FEDERAL COMMUNICATIONS COMMISSION

47 CFR Parts 2, 15, 90 and 95

[ET Docket No 19-138; Report No. 3176; FRS 34533]

Petitions for Reconsideration of Action in Rulemaking Proceeding

AGENCY: Federal Communications Commission.

ACTION: Petition for reconsideration.

SUMMARY: Petitions for Reconsideration (Petitions) have been filed in the Commission's rulemaking proceeding by Sean T. Conway, on behalf of 5G Automotive Association, Julian Gehman, on behalf of The Amateur Radio Emergency Data Network, and Hilary Cain, on behalf of The Alliance for Automotive Innovation.

DATES: Oppositions to the Petitions must be filed on or before July 22, 2021. Replies to an opposition must be filed on or before August 2, 2021.

ADDRESSES: Federal Communications Commission, 45 L Street NE, Washington, DC 20554.

FOR FURTHER INFORMATION CONTACT: Jamie Coleman, Office of Engineering and Technology, Policy and Rules Division, (202) 418-2705 or jamie.coleman@fcc.gov.

SUPPLEMENTARY INFORMATION: This is a summary of the Commission's document, Report No. 3176, released June 16, 2021. The full text of the Petitions can be accessed online via the Commission's Electronic Comment Filing System at: http://apps.fcc.gov/ecfs/. The Commission will not send a Congressional Review Act (CRA) submission to Congress or the Government Accountability Office pursuant to the CRA, 5 U.S.C. 801(a)(1)(A), because no rules are being adopted by the Commission.

Subject: Use of the 5.850-5.925 GHz Band, FCC 20-164, published at 86 FR 23281, May 3, 2021, ET Docket No. 19-138. This document is being published pursuant to 47 CFR 1.429(e). See also 47 CFR 1.4(b)(1) and 1.429(f), (g).

Number of Petitions Filed: 3.

Federal Communications Commission.
Marlene Dortch,
Secretary, Office of the Secretary.

[FR Doc. 2021-14494 Filed 7-6-21; 8:45 am]

BILLING CODE 6712-01-P